DEPARTMENT OF LABOR

Employment and Training Administration

[TA-W-41,527]

BHP Copper, Inc., Tucson, AZ, Notice of Termination of Investigation

Pursuant to Section 221 of the Trade Act of 1974, an investigation was initiated on May 13, 2002 in response to a worker petition which was filed on behalf of workers at BHP Copper, Inc., Tucson, Arizona.

An active certification covering the petitioning group of workers is already in effect (TA-W-39,749A, as amended). Consequently, further investigation in this case would serve no purpose, and the investigation has been terminated.

Signed in Washington, DC this 8th day of August, 2002.
Edward A. Tomchick,
Director, Division of Trade Adjustment Assistance.

[FR Doc. 02-21102 Filed 8-19-02; 8:45 am]

BILLING CODE 4510-30-M